DEPARTMENT OF LABOR

Employment and Training Administration

Agency Information Collection Activities for CW-1 Application for Temporary Employment Certification; Comment Request

AGENCY: Employment and Training Administration, Department of Labor.

ACTION: Notice.

SUMMARY: The Department of Labor's (DOL) Employment and Training Administration (ETA) is soliciting comments concerning a proposed revision for the authority to conduct the information collection request (ICR) titled “CW-1 Application for Temporary Employment Certification”; and related information collection and retention requirements (OMB Control Number 1205-0534), which covers Form ETA-9142C, Application for Temporary Employment Certification (Form ETA-9142C) with accompanying appendices, and Form ETA-9141C, Application for Prevailing Wage Determination (Form ETA-9141C). This action seeks a revision of the Form 9141C, and its instructions; the rest of the forms and instructions will be renewed without changes. This comment request is part of continuing Departmental efforts to reduce paperwork and respondent burden in accordance with the Paperwork Reduction Act of 1995 (PRA).

DATES: Consideration will be given to all written comments received by July 19, 2021.

ADDRESSES: A copy of this ICR with applicable supporting documentation, including a description of the likely respondents, proposed frequency of response, and estimated total burden, may be obtained for free by contacting Brian Pasternak, Administrator, Office of Foreign Labor Certification, by telephone at 202-693-8200 (this is not a toll-free number), TTY 1-877-889-5627 (this is not a toll-free number), or by email at ETA.OFLC.Forms@dol.gov.

Submit written comments about, or requests for a copy of, this ICR by email at ETA.OFLC.Forms@dol.gov.

FOR FURTHER INFORMATION CONTACT: Brian Pasternak, Administrator, Office of Foreign Labor Certification, by telephone at 202-693-8200 (this is not a toll-free number) or by email at ETA.OFLC.Forms@dol.gov.

Authority: 44 U.S.C. 3506(c)(2)(A).

SUPPLEMENTARY INFORMATION: This ICR seeks approval under the PRA for the revision to CW-1 Application for Temporary Employment Certification, which is currently set to expire on October 31, 2021, and the renewal of the validity of all applicable forms, instructions, and electronic versions (OMB Control Number 1205-0534). DOL collects information through Form ETA-9142C, and appendices, and Form ETA-9141C, to carry out the responsibilities created for DOL under the Northern Mariana Islands U.S. Workforce Act of 2018 (Pub. L. 115-218) (The Workforce Act). DOL, in its continuing efforts to reduce paperwork and respondent burden, conducts a pre-clearance consultation program to provide the general public and Federal agencies an opportunity to comment on proposed and/or continuing collections of information before submitting them to the Office of Management and Budget (OMB) for final approval. This program ensures the public provides all necessary data in the desired format, the reporting burden (time and financial resources) is minimized, collection instruments are clearly understood, and the impact of collection requirements can be properly assessed.

The Workforce Act provides that a petition to employ a nonimmigrant worker under the CW-1 visa classification may not be approved by the U.S. Department of Homeland Security unless the employer has received a temporary labor certification from DOL confirming the following: (1) There are not sufficient U.S. workers in the Commonwealth of the Northern Mariana Islands (CNMI) who are able, willing, qualified, and available at the time and place needed to perform the services or labor involved in the petition; and (2) the employment of a nonimmigrant worker who is the subject of a petition will not adversely affect the wages and working conditions of similarly employed U.S. workers. 48 U.S.C. 1806(d)(2)(A).

This information collection is subject to the PRA. A Federal agency generally cannot conduct or sponsor a collection of information, and the public is generally not required to respond to an information collection unless OMB, under the PRA, approves it and the collection tool displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0534.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used. Specifically, during this renewal cycle, the Department is very interested in receiving public input with respect to the hourly burden associated with the administrative appeals of temporary employment certifications and prevailing wage determinations;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Revision.

Title of Collection: CW-1 Application for Temporary Employment Certification.

Forms: ETA-9142C and Appendices A, B and C; ETA-9141C.

OMB Control Number: 1205-0534.

Affected Public: Individuals or Households; Private Sector (businesses or other for profits); Not-for-profit Institutions; Government, State, Local and Tribal Governments.

Total Estimated Number of Annual Respondents: 1,310.

Annual Frequency: On Occasion.

Total Estimated Number of Annual Responses: 159,308.

Estimated Time per Response: Varies by form.

Total Estimated Annual Time Burden: 71,078.16 hours.

Total Estimated Annual Other Costs Burden: $111,798.44.

Suzan G. LeVine,
Principal Deputy Assistant Secretary for Employment and Training, Labor.

[FR Doc. 2021-10529 Filed 5-18-21; 8:45 am]

BILLING CODE 4510-FP-P